CONSUMER FINANCIAL PROTECTION BUREAU

[Docket No: CFPB-2025-0035]

Privacy Act of 1974; System of Records

AGENCY: Consumer Financial Protection Bureau.

ACTION: Rescindment of a system of records notice.

SUMMARY: Pursuant to the Privacy Act of 1974, U.S.C. 552a, and Office of Management and Budget (OMB) Circular No. A-108, the Consumer Financial Protection Bureau (CFPB) proposes to rescind existing system of record “CFPB.023 Prize Competitions Program Records.” This system of record was intended to enable the CFPB to manage its prize competition program authorized by the America COMPETES Reauthorization Act of 2010, select judges for CFPB sponsored prize competitions, maintain accounting and financial information associated with making authorized payments to companies or individuals who are CFPB sponsored prize competition awardees, develop reports to applicable Federal, state, and local taxing officials of taxable income, and to meet other reporting requirements. The CFPB is rescinding this System of Records Notice (SORN) because this system is not currently maintained by CFPB, thereby making the SORN unnecessary.

DATES: Comments must be received no later than September 15, 2025. The rescindment of the system of records notice will be effective September 23, 2025 unless the comments received result in a contrary determination.

ADDRESSES: You may submit comments, identified by the title and docket number (see above Docket No. CFPB-2025-0035), by any of the following methods:

• Federal eRulemaking Portal: https://www.regulations.gov. Follow the instructions for submitting comments.

• Email: privacy@cfpb.gov. Include Docket No. CFPB-2025-0035 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov.

SUPPLEMENTARY INFORMATION: The CFPB rescinds its Privacy Act SORN “CFPB.023 Prize Competitions Program Records” as the prize competition program was never implemented; therefore CFPB has not collected, used, or maintained any information within this system of record. Rescindment of this SORN will promote the overall streamlining and management of Privacy Act record systems for the CFPB.

SYSTEM NAME AND NUMBER:

CFPB.023—Prize Competitions Program Records.

HISTORY:

77 FR 64962 (Oct. 24, 2012); 83 FR 23435 (May 21, 2018).

Kathryn Fong,
Chief Privacy Officer, Consumer Financial Protection Bureau.

[FR Doc. 2025-15452 Filed 8-13-25; 8:45 am]

BILLING CODE 4810-AM-P